DEPARTMENT OF COMMERCE

National Oceanic and Atmospheric Administration

[I.D. 123005C]

New England Fishery Management Council; Public Meeting

AGENCY: National Marine Fisheries Service (NMFS), National Oceanic and Atmospheric Administration (NOAA), Commerce.

ACTION: Notice of a public meeting

SUMMARY: The New England Fishery Management Council (Council) is scheduling a joint public meeting of its Scientific and Statistical and Social Sciences Advisory Committees in January, 2006 to consider actions affecting New England fisheries in the exclusive economic zone (EEZ). Recommendations from this group will be brought to the full Council for formal consideration and action, if appropriate.

DATES: The meeting will be held on Friday, January 27, 2006, at 9 a.m.

ADDRESSES: The meeting will be held at the Holiday Inn, 225 McClellan Highway, E. Boston, MA 02128; telephone: (617) 569-5250; fax: (617) 561-0971.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committees will meet to review and provide input on topics relevant to the Council's Ecosystems Pilot Project including, but not limited to, a review of the elements of the project including non-fishing marine resource uses; marine pollution and governance under an ecosystem approach. The committee will review the recent stakeholder workshops; provide advice for integrating, as necessary, ecosystems approaches with the current management structures and may consider other topics at their discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Dated: December 30, 2005.
Tracey L. Thompson,
Acting Director, Office of Sustainable Fisheries, National Marine Fisheries Service.

[FR Doc. E5-8311 Filed 1-5-06; 8:45 am]

BILLING CODE 3510-22-S